SMALL BUSINESS ADMINISTRATION

[License No. 02/02-0643]

Hudson Ferry Capital II, L.P.; Surrender of License of Small Business Investment Company

Pursuant to the authority granted to the United States Small Business Administration under the Small Business Investment Act of 1958, as amended, (“Act”), under section 309 of the Act, and 13 CFR 107.1900 of the Code of Federal Regulations, to function as a small business investment company under the Small Business Investment Company License No. 02/02-0643 issued to Hudson Ferry Capital II, L.P., said license is hereby declared null and void.

Bailey DeVries,
Associate Administrator, Office of Investment and Innovation, Small Business Administration.

[FR Doc. 2023-22387 Filed 10-6-23; 8:45 am]

BILLING CODE P